SMALL BUSINESS ADMINISTRATION

[Disaster Declaration #20958 and #20959; SOUTH CAROLINA Disaster Number SC-20017]

Presidential Declaration of a Major Disaster for Public Assistance Only for the State of South Carolina

AGENCY: U.S. Small Business Administration.

ACTION: Notice.

SUMMARY: This is a Notice of the Presidential declaration of a major disaster for Public Assistance Only for the State of South Carolina (FEMA—4858-DR), dated January 10, 2025.

Incident: Severe Storms and Flooding.

DATES: Issued on January 10, 2025.

Incident Period: November 6, 2024 through November 14, 2024.

Physical Loan Application Deadline Date: March 11, 2025.

Economic Injury (EIDL) Loan Application Deadline Date: October 10, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on January 10, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary Counties: Bamberg, Calhoun, Orangeburg.

The Interest Rates are:

| Percent
For Physical Damage:
Non-Profit Organizations with Credit Available Elsewhere | 3.625
Non-Profit Organizations without Credit Available Elsewhere | 3.625
For Economic Injury:
Non-Profit Organizations without Credit Available Elsewhere | 3.625

The number assigned to this disaster for physical damage is 209586 and for economic injury is 209590.

(Catalog of Federal Domestic Assistance Number 59008)

Rafaela Monchek,
Deputy Associate Administrator, Office of Disaster Recovery & Resilience.

[FR Doc. 2025-01343 Filed 1-17-25; 8:45 am]

BILLING CODE 8026-09-P